DEPARTMENT OF ENERGY

Federal Energy Regulatory Commission

[Project 11301-010]

Fall Line Hydro Company, Inc.; Notice Rejecting Request for Rehearing

July 29, 2005.

On July 18, 2005, Fall Line Hydro Company, Inc. filed a request for rehearing of a June 8, 2005, Commission staff order denying extension of time to commence construction for the Carters Reregulation Dam Project No. 11301. The project is located at the U.S. Army Corps of Engineers' Carters Reregulation Dam and Reservoir on the Cossawattee River near the town of Calhoun, in Murray County, Georgia.

Pursuant to section 313(a) of the Federal Power Act, 16 U.S.C. 8251(a), an aggrieved party must filed a request for rehearing within thirty days after the issuance of the Commission's Order, in this case no, later than July 8, 2005. Because the 30-day rehearing deadline is statutory based it cannot be extended and Fall Line Hydro Company, Inc.'s request for rehearing must be rejected as untimely.

This notice constitutes final agency action. Requests for rehearing by the Commission of this rejection notice may be filed within 30 days of the date of issuance of this notice, pursuant to 18 CFR 385.712.

Magalie R. Salas,
Secretary.

[FR Doc. E5-4164 Filed 8-2-05; 8:45 am]

BILLING CODE 6717-01-P